DEPARTMENT OF HEALTH AND HUMAN SERVICES

Health Resources and Services Administration

Strategy To Support Health Information Technology Among HRSA's Safety Net Providers

AGENCY: Health Resources and Services Administration (HRSA), HHS.

ACTION: Solicitation of comments.

SUMMARY: HRSA is requesting comments on the future direction and strategy regarding investments in health information technology (HIT) for section 330 grantees and other HRSA safety-net providers through its Office of Health Information Technology (OHIT). OHIT will evaluate all comments received during the public comment period to inform OHIT's policy direction.

DATES: To be considered, comments must be received by October 10, 2006.

FOR FURTHER INFORMATION CONTACT: Anthony Achampong, Division of Health Information Technology State and Community Assistance, Office of Health Information Technology, Health Resources and Services Administration, 5600 Fishers Lane, 7C-22, Rockville, Maryland 20857; aachampong@hrsa.gov.

SUPPLEMENTARY INFORMATION: In accordance with Public Health Service Act, Title III, section 330(e)(1)(C), and 330(c)(1)(B) and 330(c)(1)(C).

Background

The Health Resources and Services Administration (HRSA), an agency of the U.S. Department of Health and Human Services, is the primary Federal agency for improving access to health care services for people who are uninsured, isolated or medically vulnerable. Comprising five bureaus and 12 offices, HRSA provides leadership and financial support to health care providers in every State and U.S. territory. HRSA grantees provide health care to uninsured people, people living with HIV/AIDS, and pregnant women, mothers and children. They train health professionals and improve systems of care in rural communities. HRSA is the Nation's access agency—improving health and saving lives by making sure the right services are available in the right places at the right time.

The Office of Health Information Technology (OHIT) serves as the HRSA Administrator's principal advisor for promoting the adoption of HIT in the service of the medically uninsured, underserved and other vulnerable populations, and ensuring that key issues affecting the public and private adoption of HIT are addressed. The mission of OHIT is to promote quality of care and improvements in patient health outcomes through the adoption and effective use of health information technology (HIT) in the safety-net community. OHIT is also responsible for administering the Telehealth and Health Center Controlled Network (HCCN) grant programs. OHIT's goal is to represent the HIT needs of the safety-net community providers to ensure that a digital divide does not separate care for patients of HRSA grantees and those receiving care in other sectors. OHIT's goal is also to provide leadership across the Federal agencies in HIT adoption in the safety-net community.

HCCNs are the potential foundation for a HRSA strategy on HIT adoption and use by section 330 grantees. The HCCN grant program was developed in 1994 to support the creation, development, and operation of networks, controlled by health centers, to ensure access to health care for the medically underserved populations through the enhancement of health center operations. The HCCNs routinely perform core business functions across their marketplace, State, or region. The core business functions range from electronic health records, credentialing and privileging programs, utilization review and management, and clinical quality improvement. They provide these functions at or below marketplace cost to their members to increase efficiencies, reduce costs, and improve health care quality for underserved and uninsured populations. As such, the HCCNs are vital to achieving the President's goal of assuring that every American in the Nation will have an Electronic Health Record (EHR) by 2014.

HRSA'S Quality Initiative

In May 2006, HRSA reconfirmed its goal to improve the quality of health service and health outcomes for all the patients served by HRSA grantees including the 14.5 million patients served by health centers, and announced a commitment to develop new reporting requirements to measure and document clinical outcomes. It is expected that further development of the HIT infrastructure used by health centers and other HRSA grantees will take place in the context of HRSA's quality initiative. As such, HRSA's goal is not simply to collect data; it is also important that the data be used to track individual and population health outcomes and improve patient care. The long-term vision of HRSA and OHIT is to transform systems of care for safety-net populations through the effective use of HIT. HIT is an important tool in measuring and improving patient care. For example, the data available in EHRs can be used to better manage the treatment of chronic diseases, inform clinical and operational processes, and target community-oriented primary care resources. As the lessons of the HRSA Health Disparities Collaborative have shown, collecting and using data to drive system change is a fundamental part of improving patient care and related health outcomes.

Goals for OHIT Network Activities

Given that the HCCN grants are administered by OHIT and that they have a proven track record in promoting HIT adoption, OHIT is considering possible ways to modify the HCCN grant program to further promote effective adoption and implementation of HIT initiatives, including EHRs, which result in improved quality of care and patient outcomes. HRSA plans to utilize the authorities cited above to fund HCCNs. Although only entities receiving section 330 funding are eligible to be the applicant/lead grantee, an HCCN may include organizations in addition to section 330 grantees that are community based and have similar goals and missions such as Federally Qualified Health Center Look-A likes, locally funded clinics, etc.

The purpose of developing and implementing new strategies and changing the direction of HRSA's network activities is to take the lessons learned from the previous HRSA grant programs, continue to build on these successes, and create more network solutions for promoting HIT adoption by 330 grantees and other safety-net providers. HRSA is considering restructuring the HCCN grant program to focus solely on projects that promote HIT adoption. These HIT-focused projects could be funded in two phases: (1) Planning and implementation and (2) innovation and sustainability. This possible move to an HIT-focused grant program would advance the President's goals related to HIT and the adoption of EHRs. The intent would be to fund HIT-focused projects that will result in improvements in patient outcomes and quality. To be considered successful, these HIT initiatives must result in measurable increases in EHR adoption by health centers, and in clinical and operational improvements in quality and patient health outcomes.

Request for Comments

The Office of Health Information Technology is requesting comments on the future direction of investments and strategy in HIT using the HCCN model. Respondents should take into account the likelihood that HRSA programs may not grow substantially in the near future and that we may face budget limitations. The following areas provide guidance for the type of feedback we are requesting:

1. Challenges and opportunities in restructuring the HCCN grant program. Other approaches to consider in promoting quality of care and improvements in patient outcomes through HIT adoption for minority and underserved populations.

2. Key considerations that should be taken into account when designing the new funding opportunities to reach the ultimate goal of using HIT via the HCCN approach to increase EHR adoption and to improve quality of care and health outcomes.

3. Types of HIT investments, other than EHRs, that HRSA should consider investing in, to improve quality of care and health outcomes.

4. Benefits of funding networks to provide HIT support to health centers and other safety net providers. Types of incentives, if any, to encourage health centers, and other HRSA grantees to join networks.

5. Capacity needed for a network to promote HIT among a group of health centers and other HRSA grantees, such as number of health centers and/or number of patients included.

6. If and/or how HRSA should consider retaining the HCCN administrative, financial and clinical core services in the proposed funding opportunities as they relate to promoting HIT adoption?

7. Model practices in other parts of the safety net or private industry to build key HIT capacities in under-resourced environments.

8. Quality and safety issues that could be addressed with the appropriate use of HIT in the safety net organizations.

9. The role of Telehealth in the overall HIT strategy.

10. Linking quality of care and improvement of patient outcomes to these strategies to ensure that the ultimate goal of improving care is met.

11. Performance measures (process and/or outcome) to indicate progress/success of HRSA-funded HIT initiatives.

12. Expectations for networks around sustainability, including long-term sources of funding.

13. Collaboration between Primary Care Associations (PCAs) and HCCNs in the adoption of effective HIT by safety-net providers and the use of HIT to improve quality and patient outcomes.

14. Approaches to include State Medicaid agencies, public health departments, other HRSA grantees, and other providers and stakeholders in HIT adoption. Approaches to a coordinated approach in a State or community for health information technology/exchange use and support.

15. Any other comments related to OHIT's policy direction related to networks and the use of HIT to expand EHR adoption and improve quality and patient outcomes.

Collection. All comments will become a matter of public record.

Dated: September 7, 2006.
Elizabeth M. Duke,
Administrator.

1

[FR Doc. E6-15489 Filed 9-18-06; 8:45 am]

BILLING CODE 4165-15-P